DEPARTMENT OF TRANSPORTATION

Federal Aviation Administration

Aviation Rulemaking Advisory Committee (ARAC)—ARAC Input To Support Regulatory Reform of Aviation Regulations—New Task

AGENCY: Federal Aviation Administration (FAA), DOT.

ACTION: Notice of a new task assignment for the Aviation Rulemaking Advisory Committee (ARAC).

SUMMARY: The FAA assigned the Aviation Rulemaking Advisory Committee (ARAC) a new task to consider (1) recommendations on existing regulations that are good candidates for repeal, replacement, or modification and (2) recommendations on regulatory action identified in FAA's regulatory agenda. Pursuant to the February 24, 2017, Executive Order titled “Enforcing the Regulatory Reform Agenda,” each agency is required to establish a Regulatory Reform Task Force (RRTF) to evaluate existing regulations, and make recommendations for their repeal, replacement, or modification. As part of this process, the RRTF is required to seek input/assistance from entities significantly affected by its regulations. Since the ARAC's membership represents a broad spectrum of entities significantly affected the FAA's regulations, the Department, through the FAA, assigned this task to ARAC. This notice informs the public of the new ARAC activity.

FOR FURTHER INFORMATION CONTACT: Nikeita Johnson, Management and Program Analyst, Federal Aviation Administration, Room 810, 800 Independence Avenue SW., Washington, DC 20591, Nikeita.Johnson@faa.gov, (202) 267-4977.

SUPPLEMENTARY INFORMATION:

ARAC Acceptance of Task

At the April 20, 2017, ARAC meeting, the FAA assigned and ARAC accepted this task to evaluate the FAA's regulations in Title 14 of the Code of Federal Regulations to determine any and all regulations that should be repealed, replaced or modified, and to provide feedback on the regulatory actions identified in the FAA's regulatory agenda. ARAC will then provide advice and recommendations on the assigned task and submit a recommendation report to the FAA.

Background

The FAA established ARAC to provide information, advice, and recommendations on aviation related issues that could result in rulemaking to the FAA Administrator, through the Associate Administrator of Aviation Safety.

Improvement of regulations is a continuous focus for the Department. Accordingly, the Department regularly makes a conscientious effort to review its rules in accordance with the Department's 1979 Regulatory Policies and Procedures (44 FR 11034, 2/26/1979), Executive Order 12866, Executive Order 13563, and section 610 of the Regulatory Flexibility Act. Through two new Executive Orders, President Trump directed agencies to further scrutinize its regulations. On January 30, 2017, President Trump signed an Executive Order titled “Reducing Regulation and Controlling Regulatory Costs (EO).” Under Section 2a of that Executive Order, unless prohibited by law, whenever an executive department or agency publicly proposes for notice and comment or otherwise promulgates a new regulation, it shall identify at least two existing regulations to be repealed.

In addition, on February 24, 2017, President Trump signed Executive Order 13777 titled “Enforcing the Regulatory Reform Agenda.” Under this Executive Order, each agency is required to establish a Regulatory Reform Task Force (RRTF) to evaluate existing regulations, and make recommendations for their repeal, replacement, or modification. As part of this process, the Department is directed to seek input/assistance from entities significantly affected by its regulations.

Accordingly, the Department, through the FAA, tasked ARAC to consider (1) recommendations on existing regulations that are good candidates for repeal, replacement, or modification and (2) recommendations on regulatory action identified in FAA's regulatory agenda.

The Task

The ARAC is tasked to:

1. Evaluate the FAA's regulations in Title 14 of the Code of Federal Regulations to determine any and all regulations that should be repealed, replaced or modified. This evaluation will attempt to identify regulations that:

a. Eliminate jobs, or inhibit job creation;

b. Are outdated, unnecessary, or ineffective;

c. Impose costs that exceed benefits; or

d. Create a serious inconsistency or otherwise interfere with regulatory reform initiatives and policies.

For purposes of this evaluation, a regulation means any regulatory provision and could include a regulatory section (e.g., § 121.xxx), paragraph (e.g., § 121.xxx(y)), or subparagraph (e.g., § 121.xxx(y)(z)).

2. Provide a detailed explanation for recommending the repeal, replacement or modification of each regulation. This explanation will include any examples of why the regulation falls into one or more of the categories listed in paragraph 1.

3. Provide quantitative data on the costs and benefits of either repealing, replacing or modifying each regulation in the recommendation report.

4. Review the FAA's current regulatory actions identified in the regulatory agenda, and provide feedback on the current program as appropriate.

5. Develop both an initial report and an addendum report containing recommendations on the findings and results of the tasks explained above. This data will be provided in two recommendation reports. In the first recommendation report, ARAC will provide a list of regulations that are considered to address the criteria of paragraph 1 of this tasking. A second addendum recommendation report will provide details to supplement the first submittal by ARAC to the FAA, and will provide the additional and detailed data as described in paragraph 2, 3 and 4 of this tasking.

a. The recommendation report should document both majority and dissenting positions on the findings and the rationale for each position.

b. Any disagreements should be documented, including the rationale for each position and the reasons for the disagreement.

Schedule

This tasking notice requires two recommendation reports.

• The initial recommendation report must be submitted to the FAA no later than June 1, 2017, to allow for consideration of ARAC approval at the June 15, 2017 meeting.

After the initial recommendation report is submitted, the addendum recommendation report must be submitted to the FAA no later August 31, 2017, to allow for consideration of ARAC approval at the September 14, 2017, meeting. The Secretary of Transportation determined the formation and use of the ARAC is necessary and in the public interest in connection with the performance of duties imposed on the FAA by law. ARAC meetings are open to the public.

Issued in Washington, DC, on April 21, 2017.
Dale Bouffiou,
Alternate Designated Federal Officer, Aviation Rulemaking Advisory Committee.

[FR Doc. 2017-08564 Filed 4-27-17; 8:45 am]

BILLING CODE 4910-13-P